DEPARTMENT OF HEALTH AND HUMAN SERVICES

Health Resources and Services Administration

Agency Information Collection Activities: Proposed Collection: Public Comment Request; Information Collection Request Title: Nurse Corps Supplemental Funding Evaluation

AGENCY: Health Resources and Services Administration (HRSA), Department of Health and Human Services.

ACTION: Notice.

SUMMARY: In compliance with the requirement for opportunity for public comment on proposed data collection projects of the Paperwork Reduction Act of 1995, HRSA announces plans to submit an Information Collection Request (ICR), described below, to the Office of Management and Budget (OMB). Prior to submitting the ICR to OMB, HRSA seeks comments from the public regarding the burden estimate, below, or any other aspect of the ICR.

DATES: Comments on this ICR should be received no later than June 13, 2023.

ADDRESSES: Submit your comments to paperwork@hrsa.gov or mail the HRSA Information Collection Clearance Officer, Room 14N136B, 5600 Fishers Lane, Rockville, Maryland 20857.

FOR FURTHER INFORMATION CONTACT: To request more information on the proposed project or to obtain a copy of the data collection plans and draft instruments, email paperwork@hrsa.gov or call Samantha Miller, the Acting HRSA Information Collection Clearance Officer, at 301-594-4394.

SUPPLEMENTARY INFORMATION: When submitting comments or requesting information, please include the ICR title for reference.

Information Collection Request Title: Nurse Corps Supplemental Funding Evaluation, OMB No. 0915-xxxx—New.

Abstract: The objective of Nurse Corps Loan Repayment Program (LRP) and Scholarship Program (SP) is to lessen the financial burden of those pursuing nursing careers in the hope of increasing nursing workforce participation in underserved areas. The programs support HRSA's overall mission to improve health outcomes and achieve health equity through access to quality services by optimizing the distribution of the nursing workforce. The Nurse Corps LRP reimburses educational loans for nurses who serve a minimum 2-year commitment in a critical shortage facility or work as nurse faculty in accredited schools of nursing. The Nurse Corps SP similarly pays for educational expenses of nursing students who agree to a minimum 2-year service commitment in critical shortage facilities upon graduation.

HRSA last conducted a comprehensive evaluation of the Nurse Corps Programs in 2006. This notice describes plans for conducting an updated program evaluation to understand more recent program successes and challenges, including how the COVID-19 pandemic effected the programs. Additionally, HRSA seeks to understand the impact of additional funding for the Nurse Corps Programs from the American Rescue Plan Act of 2021. The evaluation will seek information from participants and alumni of the Nurse Corps Programs from 2017 through 2023 and will assess program outcomes from before, during, and after the COVID-19 pandemic, as well as the impact of the American Rescue Plan funds. This mixed-methods evaluation will have three major components: analysis of existing information, a national survey of Nurse Corps participants and alumni, and in-depth interviews (IDIs) with participants and alumni.

The national survey of Nurse Corps participants will target the following groups of respondents: LRP clinical nurse participants and alumni, LRP nurse faculty participants and alumni, SP participants (both in school and completing service obligation) and alumni. The survey will be designed and delivered via web and telephone, with reminders and a web address and a personal identification number for the survey sent by both mail and email. The survey will be conducted on a census of participants from 2017 through 2023, an estimated 7,302 participants. The survey will be tested with a small number of program participants to ensure that respondents are interpreting items as intended. An interview will be completed with each respondent during which the interviewer will ask for more in-depth explanations about the participants' understanding and response to the survey questions. Each question will be tested on no more than nine Nurse Corps participants.

As part of a comprehensive questionnaire design process, questions will be limited and refined to collect information not available through other sources. Any data collected will not be duplicative of that collected by HRSA for program monitoring. The questions will cover satisfaction with the program and service obligation site, intention to remain at the site, actual location of current practice (for alumni), training on preparedness for disasters and disease outbreaks in schools of nursing and on site, types of services provided on site, panel size and visit load, and the impact of the COVID-19 pandemic on service delivery. The survey will display only questions relevant to their programs and timeframes. Participation in the survey is voluntary, and participants will complete the survey one time.

The IDIs will be conducted with 54 participants and alumni representing the range of respondent groups: 18 IDIs will be conducted with LRP participants and alumni, 18 IDIs will be conducted with LRP nurse faculty participants and alumni, and 21 IDIs will be conducted with SP participants (both in school and completing their service obligation) and alumni. One-on-one IDIs with Nurse Corps participants and alumni will enrich the evaluation by eliciting data on the Nurse Corps experience that are more nuanced than what is feasible to collect through the survey alone. The 45-minute virtual IDIs will be conducted after the survey with a sample of current program participants and alumni. Recruitment approaches for the IDIs will include a survey question asking respondents if they would be willing to participate in an IDI as well as direct recruiting from the census of program participants and alumni via email. The IDIs will ask specifically about the process of and motivation for applying to the program, details about the Nurse Corps site experience, site-level resiliency strategies and whether they were successful, and experience working through the COVID-19 pandemic at Nurse Corps sites.

Need and Proposed Use of the Information: The information collected through the surveys and IDIs will fill gaps in the existing information available from other sources. Specific topics for data collection that are critical for evaluating the Nurse Corps Programs are discussed below.

(1) Impact of the Programs on longer-term decisions to remain in the nursing workforce at a Nurse Corps site or in another underserved area. Understanding the long-range decisions of participants is critical to understanding the success of the Nurse Corps Programs, as its goal is to affect longer-term change in the nursing workforce distribution.

(2) Experience and satisfaction with program participation, from the application phase through the service obligation phase. Participants and alumni are the only source of information about their experience and satisfaction with the program, which are important evaluation outcomes that will be used to inform future programming efforts.

(3) Details of service provision and experience with COVID-19. The COVID-19 pandemic impacted the Nurse Corps Programs and the nursing workforce in different ways. On one hand, enhanced funding for the programs resulting from the pandemic led to increases in the annual number of participants. On the other, the pandemic fundamentally reshaped the work environment for nurses, leading to increased stress, risk of illness, and changes in how care is delivered. The survey will focus on the experiences of those serving before, during, and after the pandemic to understand how the pandemic shaped participants' decisions to remain in the nursing workforce and in critical shortage facilities.

Likely Respondents: Nurse Corps LRP clinical participants and alumni (from 2017 through 2023), LRP nurse faculty participants and alumni (from 2017 through 2023), SP participants and alumni (from 2017 through 2023).

Burden Statement: Burden in this context means the time expended by persons to generate, maintain, retain, disclose, or provide the information requested. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. The total annual burden hours estimated for this ICR are summarized in the table below.

Total Estimated Annualized Burden Hours:

Form name | Number of respondents | Number of responses per respondent | Total responses | Average burden per response (in hours) | Total burden hours
In-depth Interviews (IDIs)
LRP Clinical Nurses | 18 | 1 | 18 | 0.75 | 13.50
LRP Nurse Faculty | 18 | 1 | 18 | 0.75 | 13.50
SP Students | 21 | 1 | 21 | 0.75 | 15.75
Total | 57 |  | 57 |  | 42.75
Web-based Surveys with Telephone Nonresponse Follow-up
Nurse Corps Loan Repayment Program—Clinical Nurse Participants and Alumni | 5,082 | 1 | 5,082 | 0.42 | 2,134.44
Nurse Corps Loan Repayment Program—Nurse Faculty Participants and Alumni | 804 | 1 | 804 | 0.42 | 337.68
Nurse Corps Scholarship Program—Participants and Alumni | 1,416 | 1 | 1,416 | 0.42 | 594.72
Total | 7,302 |  | 7,302 |  | 3,066.84

HRSA specifically requests comments on: (1) the necessity and utility of the proposed information collection for the proper performance of the agency's functions; (2) the accuracy of the estimated burden; (3) ways to enhance the quality, utility, and clarity of the information to be collected; and (4) the use of automated collection techniques or other forms of information technology to minimize the information collection burden.

Maria G. Button,
Director, Executive Secretariat.

[FR Doc. 2023-07889 Filed 4-13-23; 8:45 am]

BILLING CODE 4165-15-P